DEPARTMENT OF ENERGY

Federal Energy Regulatory Commission

Combined Notice of Filings #1

December 08, 2009.

Take notice that the Commission received the following electric rate filings:

Docket Numbers: ER03-983-023; ER07-758-019; ER06-738-022; ER02-537-026; ER06-739-022; ER07-501-021; ER08-649-014.

Applicants: Fox Energy Company LLC, Inland Empire Energy Center, LLC, East Coast Power Liden Holding, LLC, EFS Parlin Holdings, LLC, Cogen Technologies Linden Venture LP, Birchwood Power Partners LP, Shady Hills Power Company, LLC.

Description: GE Companies Submit Supplemental Order 652 Letter to Staff.

Filed Date: 12/07/2009.

Accession Number: 20091207-5128.

Comment Date: 5 p.m. Eastern Time on Monday, December 28, 2009.

Docket Numbers: ER03-1340-005; ER05-41-002; ER07-357-006; ER08-1288-005.

Applicants: Chanarambie Power Partners LLC; Oasis Power Partners, LLC; Fenton Power Partners I, LLC; Wapsipinicon Wind Project, LLC.

Description: Chanarambie Power Partners LLC et al submits substitute tariff sheets that correct the 8/20/09 filing errors of the revised tariff sheets.

Filed Date: 12/04/2009.

Accession Number: 20091207-0156.

Comment Date: 5 p.m. Eastern Time on Monday, December 28, 2009.

Docket Numbers: ER03-1340-006; ER07-357-007; ER08-1237-003; ER09-1302-001; ER08-1288-006; ER09-1181-002.

Applicants: Chanarambie Power Partners LLC, Fenton Power Partners I, LLC, Hoosier Wind Project, LLC, Northwest Wind Partners, LLC, Oasis Power Partners, LLC, Shiloh Wind Project 2, LLC, Wapsipinicon Wind Project, LLC.

Description: Chanarambie Power Partners, LLC et al submits a change of status notice pertaining to the respective market based rate authorizations to reflect the acquisition by EDF Development, Inc etc.

Filed Date: 12/07/2009.

Accession Number: 20091208-0065.

Comment Date: 5 p.m. Eastern Time on Monday, December 28, 2009.

Docket Numbers: ER06-972-002.

Applicants: Thornwood Management Company, LLC.

Description: Thornwood Management Company, LLC submits the Updated Market Power Analysis.

Filed Date: 12/07/2009.

Accession Number: 20091208-0062.

Comment Date: 5 p.m. Eastern Time on Friday, February 05, 2009.

Docket Numbers: ER08-394-004; ER08-394-005.

Applicants: Midwest Independent Transmission System Operator, Inc.

Description: Midwest Independent Transmission System Operator submits compliance filing regarding the effect that Behind the Meter Generation has had on the calculation of their Planning Reserve Margin etc.

Filed Date: 12/01/2009.

Accession Number: 20091208-0082.

Comment Date: 5 p.m. Eastern Time on Tuesday, December 22, 2009.

Docket Numbers: ER08-912-006; ER09-32-003; ER09-279-002; ER09-30-003; ER09-31-003; ER02-2085-015; ER03-296-002; ER07-242-013; ER03-951-022; ER09-282-002; ER05-481-020; ER09-1284-001.

Applicants: Iberdrola Renewables, Inc.; Barton Windpower LLC; Buffalo Ridge I LLC; Elm Creek Wind, LLC; Farmers City Wind, LLC; Northern Iowa Windpower II LLC; Flying Cloud Power Partners, LLC; MinnDakota Wind LLC; Moraine Wind LLC; Moraine Wind II LLC; Trimont Wind I LLC; Rugby Wind LLC.

Description: Iberdrola Renewables, Inc et al. submits supplemental information in support of the updated triennial market power analysis filed on 6/30/09.

Filed Date: 12/02/2009.

Accession Number: 20091208-0005.

Comment Date: 5 p.m. Eastern Time on Wednesday, December 23, 2009.

Docket Numbers: ER08-1057-002.

Applicants: Entergy Services, Inc.

Description: Entergy Services, Inc submits Compliance Refund Report.

Filed Date: 12/07/2009.

Accession Number: 20091208-0060.

Comment Date: 5 p.m. Eastern Time on Monday, December 28, 2009.

Docket Numbers: ER08-1106-004.

Applicants: MATL LLP.

Description: MATL, LLP submits Original Sheet 1 et al. Service Agreement 1 et al to the Open Access Transmission Tariff, FERC Electric Tariff, Second Revised Volume 1 in compliance with Order 614.

Filed Date: 12/07/2009.

Accession Number: 20091208-0063.

Comment Date: 5 p.m. Eastern Time on Monday, December 28, 2009.

Docket Numbers: ER09-411-004.

Applicants: Midwest Independent Transmission System Operator, Inc.

Description: Midwest Independent Transmission System Operator, Inc submits the results of the analysis that the August 7 Order required to be performed by the Midwest ISO's RSG Task Force etc.

Filed Date: 12/07/2009.

Accession Number: 20091208-0074.

Comment Date: 5 p.m. Eastern Time on Monday, December 28, 2009.

Docket Numbers: ER09-502-003; ER09-666-004; ER09-668-004; ER09-669-004; ER09-670-004; ER09-671-004.

Applicants: EDF Development, Inc.; EDFD-Handsome Lake; EDFD-Perryman; EDFD-Conemaugh; EDFD-C.P. Crane; EDFD-West Valley.

Description: EDF Development, Inc et al. submits Notice of change in status to inform the Commission of consummation of the Transaction et al.

Filed Date: 12/04/2009.

Accession Number: 20091208-0083.

Comment Date: 5 p.m. Eastern Time on Monday, December 28, 2009.

Docket Numbers: ER09-832-004; ER02-2559-011; ER00-2391-011; ER00-3068-010; ER98-3511-014; ER02-1903-012; ER99-2917-012; ER98-3566-020; ER98-3564-015; ER02-2120-008; ER05-714-005; ER04-290-006; ER02-256-003; ER09-990-003; ER04-187-008; ER05-236-008; ER02-2166-010; ER05-661-004; ER03-1375-007.

Applicants: NextEra Energy Power Marketing, LLC; Backbone Mountain Windpower LLC; Doswell Limited Partnership; FPL Energy Cape, LLC; FPLE Maine Hydro, LLC; FPL Energy Marcus Hook, L.P.; FPL ENERGY MH50, LP; FPL Energy Power Marketing, Inc.; FPL Energy Wyman IV LLC; FPLE Rhode Island State Energy, LP; Gexa Energy LLC; Mill Run Windpower, LLC; NextEra Energy SeaBrook, LLC; Meyersdale Windpower, LLC; North Jersey Energy Associates, a L.P.; Northeast Energy Associates, LP; Pennsylvania Windfarms, Inc.; Somerset Windpower LLC; Waymart Wind Farm L.P.

Description: NextEra Companies Notice of Change in Status Regarding the Market-Based Rate Authorizations for the ISO-NE and PJM Markets.

Filed Date: 12/07/2009.

Accession Number: 20091207-5139.

Comment Date: 5 p.m. Eastern Time on Monday, December 28, 2009.

Docket Numbers: ER09-1312-002; ER09-1313-002.

Applicants: Riverside Energy Center, LLC; RockGen Energy, LLC.

Description: Riverside Energy Center, LLC et al. submits a compliance filing of revised Rate Schedule FERC 2 et al.

Filed Date: 12/03/2009.

Accession Number: 20091207-0152.

Comment Date: 5 p.m. Eastern Time on Thursday, December 24, 2009.

Docket Numbers: ER09-1727-001; ER09-1728-001.

Applicants: ALLETE, Inc.

Description: Midwest Independent Transmission System Operator, Inc et al. submits compliance filing which revised the original 9/21/09 proposal to reflect modifications proposed in the Applicants' 10/23/09 Answer etc.

Filed Date: 12/04/2009.

Accession Number: 20091208-0013.

Comment Date: 5 p.m. Eastern Time on Monday, December 14, 2009.

Docket Numbers: ER10-92-003.

Applicants: EDF Trading North America, LLC.

Description: EDF Trading North America, LLC submits a Notice to inform the Commission that the EDF Trading affiliate, EDF Development, Inc, and Constellation Energy Group, Inc has consummated a transaction etc.

Filed Date: 12/04/2009.

Accession Number: 20091207-0154.

Comment Date: 5 p.m. Eastern Time on Monday, December 28, 2009.

Docket Numbers: ER10-139-001.

Applicants: Atlantic Path 15, LLC.

Description: Atlantic Path 15, LLC submits filing Sub, Fifth Revised Sheet 16 to its Transmission Owner Tariff, FERC Electric Tariff Revised 1 etc.

Filed Date: 12/07/2009.

Accession Number: 20091208-0061.

Comment Date: 5 p.m. Eastern Time on Monday, December 28, 2009.

Docket Numbers: ER10-142-002.

Applicants: Entergy Power, LLC.

Description: Entergy Power, Inc submits Notice of Succession and name change.

Filed Date: 12/04/2009.

Accession Number: 20091207-0155.

Comment Date: 5 p.m. Eastern Time on Monday, December 28, 2009.

Docket Numbers: ER10-147-001.

Applicants: Great River Energy.

Description: Great River Energy et al. submits Substitute Original Sheet No 3633.11 et al.

Filed Date: 12/07/2009.

Accession Number: 20091207-0198.

Comment Date: 5 p.m. Eastern Time on Monday, December 14, 2009.

Docket Numbers: ER10-288-001.

Applicants: Carolina Power & Light Company & Florida

Description: Carolina Power & Light Co and Florida Power Corp submits an amendment to the 11/18/09 Section 205 filing.

Filed Date: 12/07/2009.

Accession Number: 20091207-0197.

Comment Date: 5 p.m. Eastern Time on Monday, December 28, 2009.

Docket Numbers: ER10-354-000.

Applicants: Starion Energy Inc.

Description: Starion Energy, Inc submits an application for Order Accepting Rates for Filing and Granting Waivers and Blanket Approvals.

Filed Date: 12/04/2009.

Accession Number: 20091207-0195.

Comment Date: 5 p.m. Eastern Time on Monday, December 28, 2009.

Docket Numbers: ER10-385-000.

Applicants: Castleton Energy Services, LLC.

Description: Application of Castleton Energy Services, LLC for market based rate authority, associated waivers, blanket approvals, notification of price reporting status and request for Category 1 Seller determinations.

Filed Date: 12/07/2009.

Accession Number: 20091208-0064.

Comment Date: 5 p.m. Eastern Time on Monday, December 28, 2009.

Docket Numbers: ER10-389-000.

Applicants: Pacific Gas and Electric Company.

Description: Pacific Gas and Electric Co submits the annual adjustment to a transmission rate under the Interconnection Agreement.

Filed Date: 12/07/2009.

Accession Number: 20091207-0196.

Comment Date: 5 p.m. Eastern Time on Monday, December 28, 2009.

Docket Numbers: ER10-390-000.

Applicants: Avista Turbine Power, Inc.

Description: Avista Turbine Power, Inc submits a request for authorization for affiliate transactions and request for expedited action.

Filed Date: 12/07/2009.

Accession Number: 20091208-0059.

Comment Date: 5 p.m. Eastern Time on Thursday, December 17, 2009.

Docket Numbers: ER10-391-000.

Applicants: Entergy Services, Inc.

Description: Entergy Services, Inc submits an amended Interconnection Agreement with Cleco Power LLC.

Filed Date: 12/07/2009.

Accession Number: 20091208-0048.

Comment Date: 5 p.m. Eastern Time on Monday, December 28, 2009.

Docket Numbers: ER10-392-000.

Applicants: Allegheny Energy Supply Company, LLC.

Description: Allegheny Energy Supply Company, LLC submits request for authorization to make wholesale power sales to its affiliate, etc.

Filed Date: 12/07/2009.

Accession Number: 20091208-0045.

Comment Date: 5 p.m. Eastern Time on Monday, December 28, 2009.

Docket Numbers: ER10-393-000.

Applicants: Southwest Power Pool, Inc.

Description: Southwest Power Pool, Inc submits its Open Access Transmission Tariff to reduce the currently effective Violation Relaxation Limit governing operational constraints etc.

Filed Date: 12/07/2009.

Accession Number: 20091208-0046.

Comment Date: 5 p.m. Eastern Time on Monday, December 28, 2009.

Docket Numbers: ER10-394-000.

Applicants: Midwest Independent Transmission System Operator, Inc.

Description: Midwest Independent Transmission System Operator, Inc submits proposed revisions to its Open Access Transmission, Energy and Operating Reserve Markets Tariff, terminating provisions related to the Dispatch Band Option etc.

Filed Date: 12/07/2009.

Accession Number: 20091208-0047.

Comment Date: 5 p.m. Eastern Time on Monday, December 28, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-29880 Filed 12-15-09; 8:45 am]

BILLING CODE 6717-01-P